DEPARTMENT OF STATE

[Public Notice 6553]

Amended Department of State Notice of Intent To Prepare an Environmental Impact Statement and To Conduct Scoping Meetings and Notice of Floodplain and Wetland Involvement and To Initiate Consultation Under Section 106 of the National Historic Preservation Act for the Proposed Transcanada Keystone XL Pipeline

AGENCY: Department of State.

ACTION: Notice of Intent—Rescheduled Public Scoping Meetings in South Dakota and extension of comment period.

SUMMARY: The United States Department of State published a Notice of Intent in the Federal Register on January 28, 2009 (74 FR 5019), announcing its intent to prepare an environmental impact statement (EIS) for the proposed Keystone international pipeline project (the Keystone XL Project), which is designed to transport crude oil production from the Western Canadian Sedimentary Basin to existing markets in the Texas Gulf Coast area. The document contained a schedule for the public scoping meetings. Due to hazardous weather conditions, two of the scheduled public scoping meetings on February 26, 2009 in Faith and Buffalo, South Dakota were canceled. These two meetings have been rescheduled.

Dates and locations for the rescheduled public scoping meetings are:

Faith, South Dakota

Meeting date: Wednesday, April 8, 12-2 p.m.

Location: Faith, SD

Venue: Community Legion Hall, Main Street, Faith, SD 57626.

Buffalo, South Dakota

Meeting date: Wednesday, April 8, 7-9 p.m.

Location: Buffalo, SD

Venue: Harding County Memorial Recreation Center, 204 Hodge Street, Buffalo, SD 57720.

The public scoping period has been extended until April 15, 2009. The Department of State will consider all comments received or postmarked by April 15, 2009 in defining the scope of the EIS. Written, electronic, and oral comments will be given equal weight by the Department of State in this process.

ADDRESSES: Written comments or suggestions on the scope of the EIS should be addressed to: Elizabeth Orlando, OES/ENV Room 2657, U.S. Department of State, Washington, DC 20520. Comments may be submitted electronically to xlpipelineproject@state.gov. Public comments will be posted on the Web site identified below.

FOR FURTHER INFORMATION CONTACT: For information on the proposed project or to receive a copy of the draft EIS when it is issued, contact Elizabeth Orlando at the address listed in the ADDRESSES section of this notice by electronic or regular mail as listed above, or by telephone (202) 647-4284 or by fax at (202) 647-5947.

Project details and environmental information on the Keystone XL Project application for a Presidential Permit, including associated maps downloadable from a Web site that has been established for this purpose: http://www.keystonepipeline-XL.state.gov. This Web site will accept public comments for the record.

Information on the Department of State Presidential Permit process can also be found at the above Internet address. The MLA and FLPMA application submitted to BLM will be on file at its office in Billings, Montana.

A TransCanada hosted project Web site is also available at http://www.transcanada.com/keystone/kxl.html. The Keystone XL Project toll-free number is 1-866-717-7473 (United States and Canada).

Dated: March 17, 2009.
Daniel Fantozzi,
Director, Office of Environmental Policy, Office of International Oceans, Environmental and Scientific Affairs, Department of State.

[FR Doc. E9-6276 Filed 3-20-09; 8:45 am]

BILLING CODE 4710-07-P